DEPARTMENT OF TRANSPORTATION

Pipeline and Hazardous Materials Safety Administration

Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 20, 2011.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://regulations.gov.

This notice of receipt of applications for special permit is published in accordance with Part 107 of the Federal hazardous materials transportation law (49 U.S.C. 5117(b); 49 CFR 1.53(b)).

Issued in Washington, DC, on May 11, 2011.
Donald Burger,
Chief, Special Permits and Approvals Branch.

New Special Permits
Application number | Docket No. | Applicant | Regulation(s) affected | Nature of special permits thereof
15727-N |  | GFS Chemicals, Columbus, OH | 49 CFR 173.242(d) and 173.243(d) | To authorize the transportation of certain materials, a short distance from one facility to another, in intermediate bulk containers not otherwise authorized. (mode 1)
15283-N |  | KwikBond Polymers, LLC, Benicia, CA | 49 CFR 173.225 and 173.243 | To authorize the transportation in commerce of Class 3, PG II polyester resin in non-specification cargo tanks and UN31A intermediate bulk containers and Division 5.2, organic peroxide, type D, catalyst in a non-bulk non-specification polyethylene container. (mode 1)
15322-N |  | Digital Wave Corporation, Englewood, CO | 49 CFR 180.209(a), 180.205(c), (f), and (g), 173.302(a)(b)(2), and (b)(5) and 180.213 | To authorize the transportation in commerce of DOT 3A, 3AA, 3AX, 3AAX and 3T cylinders used for the transportation of industrial gases on truck trailers or in modules, using modal acoustic emission (MAE) retesting in lieu of hydrostatic testing (modes 1, 2, 3, 4, 5)
15323-N |  | Kidde-Fenwal Inc., Ashland, MA | 49 CFR 171.23 | To authorize the manufacture, marking, sale and use of non-DOT specification cylinders meeting EN 13322-1, containing nitrogen, to be used in fire suppression systems. (mode 1)
15328-N |  | Helimax Aviation Inc., Jackson, CA | 49 CFR 172.101 Column (9B), 172.204(c)(3), 173.27(b)(2), 175.30(a)(1), 172.200, 172.300 and 172.400 | To authorize the transportation in commerce of certain hazardous materials by cargo aircraft including by external load in remote areas of the U.S. without being subject to hazard communication requirements and quantity limitations where no other means of transportation is available. (mode 4)
15334-N |  | Floating Pipeline Company Incorporated, Halifax, Nova Scotia | 49 CFR 173.302a | To authorize the manufacture, marking, sale and use of non-DOT specification fiber reinforced plastic hoop wrapped cylinders with water capacities of up to 120 cubic feet for use in transporting certain Class 2 gases. (mode 1)
15343-N |  | Bush Air Cargo, Inc., Anchorage, AK | 49 CFR 173.241 and 173.242 | To authorize the transportation in commerce of Class 3 liquid fuels in non-DOT specification collapsible, rubber containers up to 500 gallon capacity by cargo aircraft within and to only remote Alaska locations. (mode 4)
15351-N |  | Cooper-Atkins Corporation, Middlefield, CT | 49 CFR 173.4a | To authorize certain Division 2.1 and 2.2 materials to be transported as excepted quantities. (modes 3, 5)
15360-N |  | FMC Corporation, Tonawanda, NY | 49 CFR 173.225 | To authorize the transportation in commerce of a Division 5.1 organic peroxide in a nominal 5,000 gallon DOT 412 cargo tank equipped with special relief devices by motor vehicle. (mode 1)

[FR Doc. 2011-12149 Filed 5-18-11; 8:45 am]

BILLING CODE 4909-60-M